ENVIRONMENTAL PROTECTION AGENCY

[EPA-HQ-OLEM-2018-0367; FRL-11867-01-OMS]

Agency Information Collection Activities; Submission to the Office of Management and Budget for Review and Approval; Comment Request; Underground Storage Tanks: Technical and Financial Requirements, and State Program Approval Procedures (Renewal)

AGENCY: Environmental Protection Agency (EPA).

ACTION: Notice.

SUMMARY: The Environmental Protection Agency (EPA) has submitted an information collection request (ICR), Underground Storage Tanks: Technical and Financial Requirements, and State Program Approval Procedures (EPA ICR Number 1360.18, OMB Control Number 2050-0068) to the Office of Management and Budget (OMB) for review and approval in accordance with the Paperwork Reduction Act. This is a proposed extension of the ICR, which is currently approved through April 30, 2024. Public comments were previously requested via the Federal Register on July 11, 2023 during a 60-day comment period. This notice allows for an additional 30 days for public comments.

DATES: Comments may be submitted on or before May 28, 2024.

ADDRESSES: Submit your comments, referencing Docket ID Number EPA-HQ-OLEM-2018-0368 to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Elizabeth McDermott, Office of Underground Storage Tanks, Mail Code 5401R, Environmental Protection Agency, 1200 Pennsylvania Ave. NW, Washington, DC 20460; telephone number: (202) 564-0646; email address: mcdermott.elizabeth@epa.gov.

SUPPLEMENTARY INFORMATION: This is a proposed extension of the ICR, which is currently approved through April 30, 2024. An agency may not conduct or sponsor and a person is not required to respond to a collection of information unless it displays a currently valid OMB control number.

Public comments were previously requested via the Federal Register on July 11, 2023 during a 60-day comment period (88 FR 44125). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Subtitle I of the Resource Conservation and Recovery Act (RCRA), as amended, requires that EPA develop standards for Underground Storage Tank (UST) systems, as may be necessary, to protect human health and the environment, and procedures for approving state programs in lieu of the federal program. EPA promulgated technical and financial requirements for owners and operators of USTs at 40 CFR part 280, and state program approval procedures at 40 CFR part 281. This ICR is a comprehensive presentation of all information collection requirements contained at 40 CFR parts 280 and 281.

The data collected for new and existing UST system operations and financial requirements are used by owners and operators and/or EPA or the implementing agency to monitor results of testing, inspections, and operation of UST systems, as well as to demonstrate compliance with regulations. EPA believes strongly that if the minimum requirements specified under the regulations are not met, neither the facilities nor EPA can ensure that UST systems are being managed in a manner protective of human health and the environment.

EPA uses state program applications to determine whether to approve a state program. Before granting approval, EPA must determine that programs will be no less stringent than the federal program and contain adequate enforcement mechanisms.

Form Numbers: 600-25; 7530-1.

Respondents/affected entities: Facilities that own and operate underground storage tanks (USTs), states that implement the UST programs, and tribes.

Respondent's obligation to respond: Mandatory (40 CFR part 280).

Estimated number of respondents: 193,876.

Frequency of response: Once, on occasion, annual.

Total estimated burden: 8,332,975 hours (per year). Burden is defined at 5 CFR 1320.03(b)

Total estimated cost: $689,689,686 (per year), includes $406,006,490 annualized capital and operation & maintenance costs.

Changes in Estimates: There is a decrease of 389,217 hours in the total estimated respondent burden hours compared with the ICR currently approved by OMB. There is a total decrease in burden hours because the overall number of underground storage tanks decreased while the requirements for each tank owner remained the same.

Courtney Kerwin,
Director, Information Engagement Division.

[FR Doc. 2024-08830 Filed 4-24-24; 8:45 am]

BILLING CODE 6560-50-P